DEPARTMENT OF TRANSPORTATION

Federal Aviation Administration

14 CFR Part 71

[Docket No. FAA-2008-0716; Airspace Docket No. 08-ASW-9]

Establishment of Low Altitude Area Navigation Route T-254; Houston, TX

AGENCY: Federal Aviation Administration (FAA), DOT.

ACTION: Final rule.

SUMMARY: This action establishes a low altitude Global Positioning System (GPS)/Global Navigation Satellite System (GNSS) area navigation route, designated T-254, in the vicinity of the Houston, TX, terminal area. This route allows for more efficient utilization of airspace and enhances the management of aircraft operations in the vicinity of Houston, TX.

DATES: Effective Date: 0901 UTC, January 15, 2009. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On July 2, 2008, the FAA published in the Federal Register a notice of proposed rulemaking (NPRM) to establish T-254 in the vicinity of Houston, TX (73 FR 37905). The purpose of the route is to provide a more efficient use of navigable airspace for westbound and eastbound en route Instrument Flight Rules (IFR) operations navigating around the Houston Class B terminal airspace area. Interested parties were invited to participate in this rulemaking effort by submitting written comments on the proposal. No comments were received.

Area navigation routes are published in paragraph 6011 of FAA Order 7400.9S, signed October 3, 2008, and effective October 31, 2008, which is incorporated by reference in Title 14 Code of Federal Regulations (14 CFR) part 71.1. The area navigation route listed in this document will be published subsequently in the Order.

The Rule

This action amends 14 CFR part 71 by establishing area navigation route T-254 in the vicinity of Houston, TX. The new route extends between the Centex, TX, very high frequency omnidirectional range/tactical air navigation (VORTAC) aid and the Lake Charles, LA, VORTAC. T-254 enhances aviation safety, facilitates more efficient use of the navigable airspace for en route IFR operations flying westbound and eastbound in the vicinity of Houston, TX, and establishes a published route to assist aircraft navigating around the Houston Class B terminal airspace area.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes area navigation route T-254 in the vicinity of Houston, TX.

Environmental Review

The FAA has determined that this action is categorically excluded from further environmental documentation according to FAA Order 1050.1E, Environmental Impacts: Policies and Procedures, in accordance with paragraph 311a. Additionally, the implementation of this action will not result in any extraordinary circumstances in accordance with FAA Order 1050.1E paragraph 304.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9S, Airspace Designations and Reporting Points, signed October 3, 2008, and effective October 31, 2008, is amended as follows:

Paragraph 6011 United States Area Navigation Routes.

* * * * *

T-254 Centex, TX to Lake Charles, LA [New]

Centex, TX (CWK) | VORTAC | (Lat. 30°22′43″ N., long. 97°31′47″ W.)
College Station, TX (CLL) | VORTAC | (Lat. 30°36′18″ N., long. 96°25′14″ W.)
EAKES, TX | WP | (Lat. 30°33′18″ N., long. 95°18′29″ W.)
CREPO, TX | WP | (Lat. 30°16′54″ N., long. 94°14′43″ W.)
Lake Charles, LA (LCH) | VORTAC | (Lat. 30°08′28″ N., long. 93°06′18″ W.)

* * * * *

Issued in Washington, DC, on November 5, 2008.
Edith V. Parish,
Manager, Airspace and Rules Group.

[FR Doc. E8-26933 Filed 11-17-08; 8:45 am]

BILLING CODE 4910-13-P